DEPARTMENT OF DEFENSE

Office of the Secretary

[Docket ID: DoD-2024-OS-0148]

Submission for OMB Review; Comment Request

AGENCY: Washington Headquarter Services (WHS), Department of Defense (DoD).

ACTION: 30-day information collection notice.

SUMMARY: The DoD has submitted to the Office of Management and Budget (OMB) for clearance the following proposal for collection of information under the provisions of the Paperwork Reduction Act.

DATES: Consideration will be given to all comments received by June 23, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574 (voice), whs.mc-alex.esd.mbx.dd-dod-information-collections@mail.mil (email).

SUPPLEMENTARY INFORMATION:

Title; Associated Form; and OMB Number: Pentagon Reservation Parking Permit Application; DD Form 1199; OMB Control Number 0704-0395.

Type of Request: Extension.

Number of Respondents: 4,200.

Responses per Respondent: 1.

Annual Responses: 4,200.

Average Burden per Response: 5 minutes.

Annual Burden Hours: 350.

Needs and Uses: WHS requires the collection of information from members of the public assigned to the Pentagon, Mark Center, and Suffolk buildings to obtain an authorized parking permit to park in a controlled parking facility without being enrolled in the Mass Transportation Benefit Program. The authority is promulgated in 10 United States Code 2674 Operation and Control of Pentagon Reservation and Defense Facilities in the National Capital Region; Administrative Instruction Number 88, Pentagon Reservation Vehicle Parking Program, and Executive Order 9397 (SSN), as amended.

Affected Public: Individuals or households.

Frequency: On occasion.

Respondent's Obligation: Voluntary.

OMB Desk Officer: Ms. Jasmeet Seehra.

DoD Clearance Officer: Mr. Reginald Lucas.

Dated: May 16, 2025.
Stephanie J. Bost,
Alternate OSD Federal Register Liaison Officer, Department of Defense.

[FR Doc. 2025-09166 Filed 5-21-25; 8:45 am]

BILLING CODE 6001-FR-P